INTERNATIONAL TRADE COMMISSION

Government in the Sunshine Act Meeting Notice

[USITC SE-11-013]

AGENCY: United States International Trade Commission.

TIME AND DATE: May 19, 2011 at 11 a.m.

PLACE: Room 110, 500 E Street, SW., Washington, DC 20436, Telephone: (202) 205-2000.

STATUS: Open to the public.

MATTERS TO BE CONSIDERED: 1. Agendas for future meetings: None.

2. Minutes.

3. Ratification List.

4. Vote in Inv. Nos. 701-TA-384 and 731-TA-806-808 (Second Review) (Hot-Rolled Flat-Rolled Carbon-Quality Steel Products from Brazil, Japan, and Russia). The Commission is currently scheduled to transmit its determinations and Commissioners' opinions to the Secretary of Commerce on or before June 2, 2011.

5. Outstanding Action Jackets: None.

In accordance with Commission policy, subject matter listed above, not disposed of at the scheduled meeting, may be carried over to the agenda of the following meeting.

Issued: May 11, 2011.
By order of the Commission.
William R. Bishop,
Hearings and Meetings Coordinator,

[FR Doc. 2011-12022 Filed 5-12-11; 11:15 am]

BILLING CODE 7020-02-P